DEPARTMENT OF ENERGY

Federal Energy Regulatory Commission

[Docket No. CP05-87-000]

Kinder Morgan North Texas Pipeline, L.P.; Notice of Application for Blanket Certificate and Petition for Rate Review

March 10, 2005.

Take notice that on March 2, 2005, Kinder Morgan North Texas Pipeline, L.P. (KMNTP) pursuant to section 7(c) of the Natural Gas Act, 15 U.S.C. 717(f)(c), and section 284.224 of the Commission's regulations, 18 CFR 284.224, KMNTP, a Texas Hinshaw pipeline company that is not subject to the jurisdiction of FERC, applies for a blanket certificate of public convenience and necessity authorizing interruptible transportation of natural gas in interstate commerce to the same extent and in the same manner that intrastate pipelines are authorized to engage in such activities, transactions and services pursuant to Subparts C and D of Part 284 of the Commission's regulations.

KMNTP's corporate office is located in Houston, Texas and it is subject to the jurisdiction of the Railroad Commission of Texas. KMNTP is a Delaware partnership owned by Kinder Morgan Tejas Pipeline GP, LLC and Tejas Energy Partner, LLC. These two entities are subsidiaries of Tejas Natural Gas, LLC, which is a subsidiary of Tejas Gas, LLC. The ultimate parent of KMNTP is Kinder Morgan Energy Partners, L.P. KMNTP currently provides services to one customer in the State of Texas. The pipeline's construction like its current operations is under the authority of the Railroad Commission of Texas.

Any person desiring to participate in this rate filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: March 24, 2005.

Magalie R. Salas,
Secretary.

[FR Doc. E5-1147 Filed 3-15-05; 8:45 am]

BILLING CODE 6717-01-P